DEPARTMENT OF THE TREASURY

Submission for OMB Review; Comment Request

September 20, 2016.

The Department of the Treasury will submit the following information collection requests to the Office of Management and Budget (OMB) for review and clearance in accordance with the Paperwork Reduction Act of 1995, Public Law 104-13, on or after the date of publication of this notice.

DATES: Comments should be received on or before October 24, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-0007.

Type of Review: Extension of a currently approved collection.

Title: Forest Activities Schedule.

Form: Form T.

Abstract: Form T (Timber), Forest Activities Schedule, is used to provide information on timber accounts when a sale or deemed sale under Internal Revenue Code sections 631(a), 631(b), or other exchange has occurred during the tax year.

Affected Public: Businesses or other for-profits.

Estimated Total Annual Burden Hours: 446,208.

OMB Control Number: 1545-1379.

Type of Review: Extension of a currently approved collection.

Form: 8831.

Title: Excise Taxes on Excess Inclusions of REMIC Residual Interests.

Abstract: Form 8831 is used to report and pay excise tax on any transfer of a residual interest in a Real Estate Mortgage Investment Conduit to a disqualified organization, the amount due if the tax is waived, or the excise tax due on pass-through entities with interests held by disqualified organizations.

Affected Public: Businesses or other for-profits.

Estimated Total Annual Burden Hours: 237.

OMB Control Number: 1545-1566.

Type of Review: Extension of a currently approved collection.

Title: Notice 97-66, Certain Payments Made Pursuant to a Securities Lending Transaction; Notice 2010-46, Prevention of Over-Withholding of U.S. Tax Avoidance with Respect to Certain Substitute Dividend Payments.

Abstract: The collections of information in Notice 97-66 are required to qualify substitute interest payments as portfolio interest and to defer, on election by the taxpayer, the effective date of the notice and the final securities lending regulations (T.D. 8735, 62 FR 53498) for substitute payments made after December 31, 1997. The collection of information in Notice 2010-46 is required to prevent excessive taxation under § 871(l) during the transition period.

Affected Public: Businesses or other for-profits.

Estimated Total Annual Burden Hours: 62,750.

OMB Control Number: 1545-1870.

Type of Review: Extension of a currently approved collection.

Title: TD 9107—Guidance Regarding Deduction and Capitalization of Expenditures.

Abstract: The collection of information in this Treasury Decision is in § 1.263(a)-5(f). This information is required to verify the proper allocation of certain amounts paid in the process of investigating or otherwise pursuing certain transactions involving the acquisition of a trade or business. The collection of information is voluntary but required to obtain a benefit.

Affected Public: Businesses or other for-profits.

Estimated Total Annual Burden Hours: 3,000.

OMB Control Number: 1545-1871.

Type of Review: Extension of a currently approved collection.

Title: TD 9165: Regulations Governing Practice Before the Internal Revenue Service.

Abstract: The collections of information (disclosure requirements) in these final regulations are in Code of Federal Regulations § 10.35(e). Section 10.35(e) requires a practitioner providing a covered opinion to make certain disclosures in the beginning of marketed opinions, limited scope opinions and opinions that fail to conclude at a confidence level of at least more likely than not. In addition, certain relationships between the practitioner and a person promoting or marketing a tax shelter must be disclosed. A practitioner may be required to make one or more disclosures. The collection of this material helps to ensure that taxpayers who receive a tax shelter opinion are informed of any facts or circumstances that might limit the use of the opinion.

Affected Public: Businesses or other for-profits.

Estimated Total Annual Burden Hours: 13,333.

OMB Control Number: 1545-2030.

Type of Review: Extension of a currently approved collection.

Title: REG-120509-06 (TD 9465 -Final), Determination of Interest Expense Deduction of Foreign Corporations.

Abstract: Treasury Decision (TD) 9465 contains final regulations under section 882(c) of the Internal Revenue Code (Code) concerning the determination of the interest expense deduction of foreign corporations engaged in a trade or business within the United States. The collection of information in these final regulations is in § 1.884-1(e)(3)(iv). This information is required by the IRS to allow a taxpayer to reduce U.S. liabilities to the extent necessary to prevent the recognition of a dividend equivalent amount.

Affected Public: Businesses or other for-profits.

Estimated Total Annual Burden Hours: 35.

Brenda Simms,
Treasury PRA Clearance Officer.

[FR Doc. 2016-22994 Filed 9-22-16; 8:45 am]

BILLING CODE 4830-35-P